ENVIRONMENTAL PROTECTION AGENCY

[EPA-HQ-OECA-2013-0355; FRL-9995-73-OMS]

Information Collection Request Submitted to OMB for Review and Approval; Comment Request; NESHAP for Clay Ceramics Manufacturing, Glass Manufacturing, and Secondary Nonferrous Metals Processing Area Sources (Renewal)

AGENCY: Environmental Protection Agency (EPA).

ACTION: Notice.

SUMMARY: The Environmental Protection Agency (EPA) has submitted an information collection request (ICR), NESHAP for Clay Ceramics Manufacturing, Glass Manufacturing, and Secondary Nonferrous Metals Processing Area Sources (EPA ICR Number 2274.06, OMB Control Number 2060-0606), to the Office of Management and Budget (OMB) for review and approval in accordance with the Paperwork Reduction Act. This is a proposed extension of the ICR, which is currently approved through August 31, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before July 26, 2019.

ADDRESSES: Submit your comments, referencing Docket ID Number EPA-HQ-OECA-2013-0355, to: (1) EPA online using www.regulations.gov (our preferred method), by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Clay Ceramics Manufacturing, Glass Manufacturing, and Secondary Nonferrous Metals Processing Area Sources (40 CFR part 63, subparts RRRRRR, SSSSSS, and TTTTTT) were proposed on September 20, 2007, and promulgated on December 26, 2007. These regulations apply to the following existing and new facilities: (1) Clay ceramics manufacturing facilities that process more than 50 tons per year of wet clay and are area sources of hazardous air pollutants (HAP); (2) glass manufacturing facilities that use continuous furnaces to produce glass that contains HAP as raw materials and are area sources of HAP; and (3) secondary nonferrous metals processing facilities that are area sources of HAP. Clay ceramics manufacturing facilities include facilities that manufacture pressed tile, sanitaryware, dinnerware, or pottery with an atomized glaze spray booth or kiln that fires glazed ceramic ware. Glass manufacturing facilities include facilities that manufacture flat glass, glass containers, or pressed and blown glass by melting a mixture of raw materials, to produce molten glass and form the molten glass into sheets, containers, or other shapes. Secondary nonferrous metals processing facilities means brass and bronze ingot making, secondary magnesium processing, or secondary zinc processing plants that use furnace melting operations to melt post-consumer nonferrous metal scrap to make products including bars, ingots, blocks, or metal powders. New facilities include those that commenced construction, modification or reconstruction after the date of proposal. This information is being collected to assure compliance with 40 CFR part 63, subparts RRRRRR, SSSSSS, and TTTTTT.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Clay ceramics manufacturing facilities that process more than 50 tons per year of wet clay, glass manufacturing facilities that use continuous furnaces to produce glass that contains HAP as raw materials, and secondary nonferrous metals processing facilities that are area sources of HAP.

Respondent's obligation to respond: Mandatory (40 CFR part 63, subparts RRRRRR, SSSSSS, and TTTTTT).

Estimated number of respondents: 82 (total), consisting of 51 clay ceramics manufacturing facilities, 21 glass manufacturing facilities, and 10 secondary nonferrous metals processing facilities.

Frequency of response: Initially and occasionally.

Total estimated burden: 1,950 hours (per year). Burden is defined at 5 CFR 1320.3(b).

Total estimated cost: $235,000 (per year), which includes $13,200 in annualized capital/startup and/or operation & maintenance costs.

Changes in the Estimates: There is an increase in the respondent labor hours in this ICR compared to the previous ICR. The increase is not due to a change in program requirements. The number of respondents expected to refamiliarize with the regulatory requirements each year has been increased to include all 82 respondents. The annual O&M costs for glass furnace inspections have been adjusted upward to reflect current industry labor rates for technical workers. The regulations have not changed over the past three years and are not anticipated to change over the next three years. The growth rate for the industry is very low, negative or non-existent.

Courtney Kerwin,
Director, Regulatory Support Division.

[FR Doc. 2019-13555 Filed 6-25-19; 8:45 am]

BILLING CODE 6560-50-P